DEPARTMENT OF THE INTERIOR

Fish and Wildlife Service

[FWS-R4-R-2012-N107; FXRS12650400000S3-123-FF04R02000]

Culebra National Wildlife Refuge, PR; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for Culebra National Wildlife Refuge (NWR) in the municipality of Culebra, Puerto Rico, for public review and comment. In this Draft CCP/EA, we describe the alternative we propose to use to manage this refuge for the 15 years following approval of the final CCP.

DATES: To ensure consideration, we must receive your written comments by August 10, 2012.

ADDRESSES: You may obtain a copy of the Draft CCP/EA by contacting Ms. Ana Román, via U.S. mail at P.O. Box 510, Boquerón, PR 00622. Alternatively, you may download the document from our Internet Site at http://southeast.fws.gov/planning under “Draft Documents.” Comments on the Draft CCP/EA may be submitted to the above postal address or by email to ana_roman@fws.gov.

FOR FURTHER INFORMATION CONTACT: Ms. Ana Román at 787/851-7258 (telephone).

SUPPLEMENTARY INFORMATION:

Introduction

Culebra NWR is located within the municipality of Culebra, Puerto Rico, and consists of several units on the main island of Culebra and numerous small islands surrounding Culebra. With this notice, we continue the CCP process for Culebra NWR. We started the process through a notice in the Federal Register on December 19, 2008 (73 FR 77827). For more about the refuge, please see that notice.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Issues

During the development of the Draft CCP/EA, we identified issues that we felt were most significant to the refuge and the public. These issues included: (1) Managing invasive species; (2) protecting and managing sea turtle nesting beaches; (3) monitoring and managing seabird colonies; (4) cleaning of contamination and unexploded ordnance from prior military activities; (5) accessing and utilizing beaches; (6) developing plans for repair and re-utilization of the old Observation Post at Punta Flamenco; (7) developing hiking trails; (8) completing boundary verification; and (9) developing renewable energy projects.

CCP Alternatives, Including Our Proposed Alternative

We developed three alternatives for managing the refuge (Alternatives A, B, and C), with Alternative C as our proposed alternative. A full description of each alternative is in the Draft CCP/EA. We summarize each alternative below.

Alternative A: Current Management (No Action)

Under this alternative, we would continue with periodic efforts to survey and manage for seabird populations. In cooperation with partners, we would also continue surveys and protection of nesting hawksbill, green, and leatherback sea turtles and their nests/eggs. There would, however, be no active program for resident and migratory birds.

We would continue to protect habitat and conduct periodic surveys for the Virgin Islands and Puerto Rican boas and giant anoles. For listed plants, we would continue to protect and monitor existing populations of Pepperomia wheelerii and Leptocereus grantianus. We would also protect land and resources on offshore cays and conduct limited invasive species removal.

Culebra NWR would maintain its existing boundaries with no further acquisition. We would continue to work informally with the Puerto Rico Department of Natural and Environmental Resources (DNER) and other partners, and restore the law enforcement officer position to protect refuge resources.

The refuge would maintain its current schedule, under which it is open to the public during daylight hours only. Currently closed areas, such as the Observation Post, would remain closed to the public. Access to open areas by water taxis under special use permits would continue. We would continue to provide for opportunistic wildlife observation and photography. Existing signage and interpretive materials would be maintained. We would continue to operate the refuge without a visitor center or friends group. Cooperation with agencies, the municipality, education institutions, non-governmental organizations, and volunteers assisting with refuge management would continue.

Alternative B: Wildlife Management Emphasis

Under this alternative, we would conduct expanded seasonal surveys to determine seabird abundance, and provide for research on nesting success and nesting habitat quality. We would also manipulate vegetation to improve seabird nesting habitat, and implement control of invasive predators that prey on seabirds.

In cooperation with partners, we would also continue surveys and protection of sea turtles and their nests/eggs. To benefit resident and migratory birds, annual surveys would be developed and implemented at selected locations throughout the refuge. We would also implement habitat management strategies to benefit target species of birds and cooperate with Puerto Rico DNER to conduct regular surveys and manage habitat for listed animal species. This alternative provides for the establishment of additional populations of two species of listed plants—Pepperomia wheelerii and Leptocereus grantianus.

Alternative B would provide for the restoration of hydrology to specified areas of degraded mangrove habitat, as well as restoration of dry forest through selective invasive species removal and planting of propagated trees. This alternative would intensify efforts at invasive species control and eradication, and pursue opportunities for habitat restoration on offshore cays.

Under this alternative, we would clearly delineate all refuge boundaries and pursue opportunities for boundary expansion with acquisitions from willing sellers. Partnerships with Puerto Rico DNER and others would be strengthened and formalized, and we would restore the law enforcement officer position to protect refuge resources.

The refuge would maintain its current schedule, under which it is open to the public during daylight hours only. The Observation Post and other currently closed areas would remain closed. Access to offshore cays would continue by water taxis under special use permits. Opportunistic wildlife observation and photography on open areas would continue. We would continue to operate the refuge without a visitor center.

In addition to the staff provided under Alternative A, we would add a full-time biologist position and one full-time and one half-time biological technician position. Under Alternative B, we would continue coordination with the Army Corps of Engineers to remove hazardous materials and unexploded ordnance from the refuge.

We would also facilitate the formation of a friends group with 5 years of approval of the comprehensive conservation plan, and increase cooperation with partners focused on wildlife management by establishing formal agreements where appropriate.

Alternative C: Expansion of Wildlife and Habitat Management, With Increased Public Use Opportunities (Proposed Alternative)

This alternative expands both wildlife and habitat management and public use activities.

To recover special status plants and animal species, Alternative C is virtually identical to Alternative B. It provides for expanded seasonal surveys to determine seabird abundance, research on nesting success, nesting habitat quality, manipulation of vegetation to improve nesting habitat, and control of invasive predators.

We would also continue surveys and protection of sea turtles and develop and implement annual surveys for resident and migratory birds, and establish additional populations of two species of listed plants—Pepperomia wheelerii and Leptocereus grantianus.

This alternative also calls for restoring hydrology to areas of degraded mangrove habitat, and restoring dry forest through selective invasive species removal and planting of propagated trees. We would also intensify efforts at invasive species control and eradication and pursue habitat restoration on offshore cays.

Within 5 years of approval of the comprehensive conservation plan, we would clearly delineate all refuge boundaries, pursue opportunities for boundary expansion with acquisitions from willing sellers, and work to resolve boundary issues. We would also complete and begin to implement a cultural resources management plan for the refuge.

The refuge would maintain its current schedule, under which it is open to the public during daylight hours only. Working with the Army Corps of Engineers to determine safety of areas cleared of unexploded ordnance, we would evaluate the potential for opening additional areas to the public, considering both safety and biological factors. We would continue to permit water taxis under special use permit for access to cays. We would also develop partnerships to restore and reopen the Observation Post for environmental research and/or education purposes.

We would continue to provide for opportunistic wildlife observation and photography opportunities. We would develop additional public use facilities, such as trails, towers, boardwalks, and blind, to increase opportunities for wildlife observation and photography. We would also develop environmental education and interpretation programs and materials (e.g., curriculum, teacher training) to be used both on and off the refuge.

In addition to current staff, we would add one public use specialist position, one biologist position, one and one-half biological technician positions, and one maintenance worker position.

This alternative provides for the maintenance of all current equipment and facilities, including two boats and the office and residence buildings. It also provides for the development and maintenance of additional trails, towers, boardwalks, blinds, and the construction of a new headquarters/visitor contact station.

We would also facilitate the formation of a friends group, increase cooperation with partners in habitat and wildlife management and public use, and establish formal agreements.

Contingent upon adding a public use specialist, within 5 years of CCP approval, we would develop and begin to implement a communications plan.

Next Step

After the comment period ends, we will analyze the comments and address them.

Public Availability of Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: June 11, 2012.
Mark J. Musaus,
Acting Regional Director.

[FR Doc. 2012-16901 Filed 7-10-12; 8:45 am]

BILLING CODE 4310-55-P